DEPARTMENT OF JUSTICE

Notice of Lodging Proposed Consent Decree

In accordance with Departmental Policy, 28 CFR 50.7, notice is hereby given that a proposed Consent Decree in American Bottom Conservancy v. Jackson, Civil Action No. 3:12-cv-00296-GPM-SCW, was lodged with the United States District Court for the Southern District of Illinois on July 23, 2012.

This proposed Consent Decree concerns a complaint filed by American Bottom Conservancy (“ABC”) against Lisa P. Jackson, in her official capacity as Administrator of the Environmental Protection Agency (“EPA”), pursuant to Section 304(a)(2) of the Clean Air Act (“CAA”), 42 U.S.C. § 7604(a)(2), to obtain injunctive relief to require EPA to respond to an administrative petition filed by ABC challenging an air pollution permit issued by the Illinois Environmental Protection Agency for the U.S. Steel Corporation's Granite City Works facility, Permit No. 96030056. The proposed Consent Decree resolves these allegations by requiring EPA to act on the administrative petition on or before December 3, 2012.

The Department of Justice will accept written comments relating to this proposed Consent Decree for thirty (30) days from the date of publication of this Notice. Please address comments to Perry M. Rosen, Trial Attorney, United States Department of Justice, Environment and Natural Resources Division, P.O. Box 7611, Washington, DC 20044 and refer to ABC v. Jackson, DJ # 90-5-2-4-19402.

The proposed Consent Decree may be examined at the Clerk's Office, United States District Court for the Southern District of Illinois, 750 Missouri Avenue, East St. Louis, Illinois 62201. In addition, the proposed Consent Decree may be examined electronically at http://www.justice.gov/enrd/Consent_Decrees.html.

Cherie L. Rogers,
Assistant Section Chief, Environmental Defense Section, Environment & Natural Resources Division.

[FR Doc. 2012-18406 Filed 7-27-12; 8:45 am]

BILLING CODE P